DEPARTMENT OF HEALTH AND HUMAN SERVICES

Centers for Medicare & Medicaid Services

[CMS-9953-FN]

Health Insurance Exchanges; Approval of an Application by the Accreditation Association for Ambulatory Health Care (AAAHC) To Be a Recognized Accrediting Entity for the Accreditation of Qualified Health Plans

AGENCY: Centers for Medicare & Medicaid Services (CMS), HHS.

ACTION: Final notice.

SUMMARY: This final notice announces our decision to approve the Accreditation Association for Ambulatory Health Care (AAAHC) for recognition as an accrediting entity for the purposes of fulfilling the accreditation requirement as part of qualified health plan (QHP) certification.

DATE: This notice is effective on December 23, 2013.

FOR FURTHER INFORMATION CONTACT: Rebecca Zimmermann, (301) 492-4396.

SUPPLEMENTARY INFORMATION:

I. Background

Regulations at 45 CFR 156.275(c) require qualified health plan (QHP) issuers to be accredited on the basis of local performance of its QHPs by an accrediting entity recognized by the Secretary (the Secretary) of the Department of Health and Human Services (HHS). In a final rule published on July 20, 2012 titled, “Data Collection To Support Standards Related to Essential Health Benefits; Recognition of Entities for the Accreditation of Qualified Health Plans (77 FR 42658),” we established the first phase of an intended two-phase approach to recognize accrediting entities and proposed both the National Committee for Quality Assurance (NCQA) and URAC as recognized accrediting entities. On November 23, 2012, we notified the public that NCQA and URAC had both met the requirements in the July 2012 final rule to be recognized as accrediting entities (§ 156.275(c)(1)(iv)) and were recognized by the Secretary ¹ as accrediting entities for the purposes of QHP certification.

¹ Certain authority under the Affordable Care Act has been delegated from the Secretary to the Administrator of CMS. 76 FR 53903 through 53906, (August 30, 2011).

On February 25, 2013, we published a subsequent final rule, titled, “Standards Related to Essential Health Benefits, Actuarial Value, and Accreditation” (78 FR 12834),² which amended § 156.275(c) to establish an application and review process to allow additional accrediting entities to seek recognition. The application submitted by an accrediting entity must include documentation described in § 156.275(c)(4) and demonstrate, in a concise and organized fashion, how the accrediting entity meets the requirements of § 156.275(c)(2) and (3). Specifically, to be recognized, an accrediting entity must provide current accreditation standards and requirements, processes, and measure specifications for performance measures to demonstrate via a crosswalk that it meets the conditions described in § 156.275(c)(2) and (c)(3). Further, once recognized, § 156.275(c)(4)(ii) requires accrediting entities to provide the Secretary with any proposed changes or updates to the accreditation standards and requirements, processes, and measure specifications for performance measures with 60 days' notice prior to public notification. Lastly, § 156.275(c)(5) requires recognized accrediting entities, when authorized by an accredited QHP issuer, to provide specific QHP issuer accreditation survey data elements, other than personally identifiable information, to the Exchange in which the issuer plans to operate one or more QHPs during the annual certification or as changes occur in the data elements throughout the coverage year.

² Patient Protection and Affordable Care Act; Standards Related to Essential Health Benefits, Actuarial Value, and Accreditation; Final Rule, 78 FR 12834, 12854-12855 (February 25, 2013) (45 CFR 156.275(c)).

II. Provisions of the Proposed Notice

On September 13, 2013, we published in the Federal Register a proposed notice ³ announcing the receipt of an application from the Accreditation Association for Ambulatory Health Care (AAAHC) to be a recognized accrediting entity for the purposes of fulfilling the accreditation requirement as part of qualified health plan certification. In the proposed notice, we provided a detailed analysis of whether AAAHC meet the requirements as specified in our regulations at § 156.275. In addition, we solicited public comments on whether it was appropriate to recognize AAAHC as an accrediting entity for the purpose of QHP certification; AAAHC's accreditation standards for QHP issuers including whether or not AAAHC's standards meet the requirements in § 156.275; whether AAAHC had any deficiencies in its standards; the content of the proposed clinical quality measures and their appropriateness for use in QHP accreditation; the rigor of the scoring methodology; and if the network adequacy standards will ensure sufficient network of providers for QHP enrollees.

³ Health Insurance Exchanges; Application by the Accreditation Association for Ambulatory Health Care To Be a Recognized Accrediting Entity for the Accreditation of Qualified Health Plans; 78 FR 56711-56714 (September 13, 2013).

III. Analysis of and Response to Public Comments on the Proposed Notice

We received nine public comments in response to the September 13, 2013 proposed notice. Five commenters supported the recommendation to recognize AAAHC as an accrediting entity for the purposes of QHP accreditation; whereas two commenters did not support the proposal to recognize AAAHC as an accrediting entity. Two commenters provided comments that were outside the scope of the proposed notice.

One commenter questioned the comparability of AAAHC's standards to other HHS-recognized accrediting entities. Another commenter requested that more child measures be included in the clinical quality metrics. Both of these commenters thought that the accreditation standards were not sufficiently transparent.

While there may be some instances where AAAHC's standards differ from other recognized accrediting entities, AAAHC has met the criteria to be recognized by HHS based on our standards in § 156.275(c). We believe there is a sufficient number of measures applicable to children included in the proposed clinical quality metrics and further note that the AAAHC's measure set is identical to the set used by a different HHS-recognized accrediting entity (that is, URAC). Lastly, the accreditation standards are propriety documents and we have not required any of the recognized accrediting entities to make their standards public. Therefore, we cannot require AAAHC to make their standards public.

In addition, we have previously indicated that we may, at a later date, modify the recognition process of accrediting entities and will solicit comments on any proposed future rulemaking that time.

IV. Provisions of the Final Notice

Upon completion of our analysis, including evaluation of comments received as a result of the proposed notice, we have determined that the AAAHC meets the requirements and criteria described in the July 20, 2012 final rule, titled “Data Collection To Support Standards Related to Essential Health Benefits; Recognition of Entities for the Accreditation of Qualified Health Plans” (77 FR 42658) to be recognized as an accrediting entity. This final notice acknowledges the approval of AAAHC's application. The AAAHC is now recognized by the Secretary of HHS ⁴ as an accrediting entity for the purposes of QHP certification.

⁴ Delegated to CCIIO, 76 FR 53903 through 53906 (August 30, 2011).

V. Collection of Information Requirements

This document does not impose information collection and recordkeeping requirements. Consequently, it need not be reviewed by the Office of Management and Budget under the authority of the Paperwork Reduction Act of 1995.

Dated: December 17, 2013.
Marilyn Tavenner,
Administrator, Centers for Medicare & Medicaid Services.

[FR Doc. 2013-30522 Filed 12-20-13; 8:45 am]

BILLING CODE 4120-01-P